DEPARTMENT OF THE INTERIOR

Fish and Wildlife Service

Notice of receipt of application for endangered species permit

AGENCY: U.S. Fish and Wildlife Service, Interior.

ACTION: Notice of receipt of application for endangered species permit.

SUMMARY: The following applicant has applied for a permit to conduct certain activities with an endangered species. This notice is provided pursuant to section 10(c) of the Endangered Species Act of 1973, as amended (16 U.S.C. 1531 et seq.).

DATES: Written data or comments on this application must be received at the address given below by September 30, 2002.

ADDRESSES: Documents and other information submitted with this application are available for review by any party who submits a written request for a copy of such documents to the following office within 30 days of the date of publication of this notice: U.S. Fish and Wildlife Service, 300 Westgate Center Drive, Hadley, Massachusetts 01035. Attention: Diane Lynch, Regional Permits Coordinator. Telephone: 413-253-8628; Facsimile: 413-253-8482.

FOR FURTHER INFORMATION CONTACT: Diane Lynch, Telephone: 413-253-8628; Facsimile: 413-253-8482

SUPPLEMENTARY INFORMATION: You are invited to comment on an application received from the Department of Army's, Fort AP Hill, PRT-TE059639-0. The applicant requests authorization to take (collect) entire individuals of three federally listed endangered plants; one individual of Sarracenia oreophila (green pitcher plant); two individuals of Sarracenia rubra spp. alabamensis (Alabama canebrake pitcher plant) and Sarracenia rubra spp. jonesii (Mountain sweet pitcher plant), from Caroline County, Virginia. These plants are not native to Virginia and were planted by an unauthorized individual within Fort AP Hill's boundaries. The plants will be removed from Fort AP Hill and provided to the Lewis Ginter Botanical Gardens, Richmond, Virginia and used as part of an educational display.

Dated: July 29, 2002.
Mamie A. Parker,
Regional Director.

[FR Doc. 02-22151 Filed 8-29-02; 8:45 am]

BILLING CODE 4310-55-P